DEPARTMENT OF EDUCATION

34 CFR Part 611

Teacher Quality Enhancement Grants Program

AGENCY: Office of Postsecondary Education, Department of Education.

ACTION: Notice of proposed rulemaking.

SUMMARY: The Assistant Secretary for Postsecondary Education proposes regulations for the three grant programs included in the Teacher Quality Enhancement Grant Programs, sections 202-204 of the Higher Education Act of 1965 (HEA), as amended. These proposed regulations contain selection criteria that would be used to select applicants for awards under the State Program, Partnership Program, and Teacher Recruitment Program. These proposed regulations also contain certain other requirements that would apply to the programs.

DATES: We must receive your comments on or before March 13, 2000.

ADDRESSES: All comments concerning these proposed regulations should be addressed to: Dr. Louis Venuto, Higher Education Programs, Office of Postsecondary Education, Office of Policy, Planning, and Innovation, 1990 K Street, NW, Washington, DC 20006-8525: Telephone: 202-502-7763. Comments also may be sent by e-mail to: Louis_Venuto@ed.gov or by FAX to; (202) 502-7699. If you prefer to send your comments through the Internet use the following address: comments@ed.gov. You must include the term “Teacher Quality” in the subject line of your electronic message.

FOR FURTHER INFORMATION CONTACT: Dr. Louis Venuto, Higher Education Programs, Office of Postsecondary Education, Office of Policy, Planning, and Innovation, 1990 K Street, NW, Washington, DC 20006-8525: Telephone: (202) 502-7763. Inquiries also may be sent by e-mail to: Louis_Venuto@ed.gov or by FAX to: (202) 260-9272. If you use a telecommunications device for the deaf (TDD), you may call the Federal Information Relay Service (FIRS) at 1-800-877-8339.

Individuals with disabilities may obtain this document in an alternate format (e.g., Braille, large print, audiotape, or computer diskette) on request to the contact person listed in the preceding paragraph.

SUPPLEMENTARY INFORMATION:

Invitation to Comment

We invite you to submit comments regarding these proposed regulations.

We invite you to assist us in complying with the specific requirements of Executive Order 12866 and its overall requirement of reducing regulatory burden that might result from these proposed regulations. Please let us know of any further opportunities we should take to reduce potential costs or increase potential benefits while preserving the effective and efficient administration of the program.

During and after the comment period, you may inspect all public comments about these proposed regulations in the Department of Education, Teacher Quality Program Office, 1990 K Street NW, 6th floor, Washington, DC. Comments are available for inspection between the hours of 8:30 a.m. and 4:00 p.m., Eastern time, Monday through Friday of each week except Federal holidays.

In order to ensure sufficient time to prepare and review grant applications submitted for FY 2000, the Department will need to publish final regulations for these programs as soon as possible after the expiration of the public comment period. For this reason, while you have 30 days to submit public comment, we urge you to submit comments to us on or before February 25, 2000. In addition, we also urge those who wish to comment on the information collection requirements contained in the program application packages to send written comment on or before February 25, 2000. See the discussion in the section entitled “Paperwork Reduction Act of 1995” and the addressee identified in that section to whom comments should be sent.

Assistance to Individuals With Disabilities in Reviewing the Rulemaking Record

On request, we will supply an appropriate aid, such as a reader or print magnifier, to an individual with a disability who needs assistance to review the comments or other documents in the public rulemaking record for these proposed regulations. If you want to schedule an appointment for this type of aid, you may call (202) 205-8113 or (202) 260-9895. If you use a TDD, you may call the Federal Information Relay Service (FIRS) at 1-800-877-8339.

General

Background

On October 8, 1998, the President signed into law the Higher Education Amendments of 1998 (Pub. L. 105-244). This law addresses the Nation's need to ensure that new teachers enter the classroom prepared to teach all students to high standards by authorizing, as Title II of the Higher Education Act (HEA), the Teacher Quality Enhancement Grants for States and Partnerships (Teacher Quality Programs). The new Teacher Quality Enhancement Grants Program provides an historic opportunity to effect positive change in the recruitment, preparation, licensing, and on-going support of teachers in America.

The new Teacher Quality Enhancement Grants Program consists of three different competitive grant programs: (1) The State Grants Program, which is designed to help States promote a broad array of improvements in teacher licensure, certification, preparation, and recruitment; (2) the Partnership Grants for Improving Teacher Preparation Program, which is designed to have schools of education, schools of arts and sciences, high-need local educational agencies (LEAs), and others work together to ensure that new teachers have the content knowledge and skills their students need of them when they enter the classroom; and (3) the Teacher Recruitment Grants Program, which is designed to help schools and school districts with severe teacher shortages to secure the high-quality teachers that they need. Together, these programs are designed to increase student achievement by supporting comprehensive approaches to improving teacher quality.

State Grants Program (State Program)

The State Grants Program offers a unique opportunity to support far-reaching efforts to redesign teacher education. Through the policy leadership of Governors, State legislatures, and other important partners, the program can assure the statewide support so essential to bringing about the important policy changes needed in teacher recruitment, preparation, licensing and certification, and retention. States are in the position to increase the expectations for newly state-certified and licensed teachers as well as test for and reward high-quality teaching.

Under the program, each State may develop a program application that focuses on activities it chooses to conduct in one or more areas that are key to improving the quality of new teachers. In this regard, areas in which a State may propose to focus include:

• Teacher licensure, certification, and preparation policies and practices, including rigorous alternative routes to certification;

• Reforms that hold institutions of higher education (IHE) with teacher preparation programs accountable for preparing teachers who are highly competent in academic content areas and possess strong teaching skills;

• Wholesale redesign of teacher preparation programs, in collaboration with the schools of arts and sciences, in ways that promote stronger academic content and subject-matter knowledge of students in those programs;

• Improved linkages between IHEs and K-12 schools, with more time spent by college faculty and teacher education students in K-12 classrooms, and greater use of technology in the teacher education programs;

• Use of new strategies to attract, prepare, support, and retain highly competent teachers in high-poverty urban and rural areas;

• Redesign and improvement of existing teacher professional development programs to improve the content knowledge, technology skills, and teaching skills of practicing teachers;

• Improved accountability for high-quality teaching through performance-based compensation and the expeditious removal of incompetent or unqualified teachers while ensuring due process; and

• Efforts to address the problem of social promotion and to prepare teachers to deal with the issues raised by ending social promotion.

Partnership Grants for Improving Teacher Education (Partnership Program)

The purpose of the Partnership Program is to improve student learning by bringing about fundamental change and improvement in traditional teacher education programs. Through multi-year awards to a limited number of highly-committed partnerships, the Partnership Program is intended to ensure that new teachers have the content knowledge and teaching skills they need when they enter the classroom. Section 203(a) and (b) of the HEA provides that partnerships eligible for awards must comprise, at a minimum, a partnership institution, a school of arts and science, and a high-need LEA as the law defines these terms. Partnerships also may include other entities that can contribute expertise, resources or both to the teacher preparation project. A key aspect of the program is the active participation of all members of the partnership in the design and implementation of project activities.

By law, successful applicants must propose to implement certain activities:

• The reform of teacher preparation programs so that these programs become accountable for producing teachers who are highly competent in the academic content areas in which they pan to teach;

• The provision of high quality and sustained pre-service clinical experiences and mentoring for new teachers, together with a substantial increase in the interaction between teachers, principals, and higher education faculty; and

• The creation of opportunities for enhanced and ongoing professional development that improves the academic content knowledge of teachers in fields in which they are or will be certified to teach.

Beyond these minimum requirements, the Partnership program supports activities that propose to educate teachers in ways that reflect best research and practice, and embody high teaching standards. These activities include the preparation of teachers to work with diverse student populations so that all students they will teach can achieve to high State and local content and performance standards, and implementation of instructional programs whose effectiveness has been demonstrated through research.

The Partnership Program also seeks to—

• Offer alternative routes into teaching to individuals who may have had careers in other professions, in the military or in other fields, and to educational paraprofessionals;

• Prepare teachers to successfully integrate technology into teaching and learning;

• Require prospective teachers to participate in intensive, structured, and clinically-based experiences with master teachers;

• Offer continuous assistance to graduates during their initial years in the classroom; and

• Prepare school principals, superintendents, and other school administrators to employ strong management and leadership skills that can help increase student achievement.

Teacher Recruitment Grants Program (Teacher Recruitment Program)

The Teacher Recruitment Program is designed to address the challenge of America's teacher shortage by making significant and lasting systemic changes to the ways that teachers are recruited, prepared, and supported as new teachers in high-need schools. The Teacher Recruitment Program supports projects that use funds to—

• Award scholarships to help students pay the costs of tuition, room, board, and other expenses of completing a teacher training program;

• Provide support services, if needed, to enable scholarship recipients to complete postsecondary education programs; and

• Provide for follow-up services to former scholarship recipients during their first three years of teaching.

Alternatively, funds may be used to develop and implement effective mechanisms to ensure that high-need LEAs and schools are able to effectively recruit highly qualified teachers.

Both States and eligible partnerships may receive awards under the Teacher Recruitment Program. For both States and partnerships, effective relationships and partnerships among all those who will implement project activities are keys to effective Teacher Recruitment Program activities. In particular, out of these partnerships and relationships will come (1) the recruitment strategies that are so vital to meeting the severe teaching needs of the high-need LEAs, (2) the kind of teacher preparation programs, which are built around effective support from both schools of education and schools of arts and science and other areas of the IHE, that recruited individuals will need in order to be effective teachers to the diverse student populations in those LEAs, and (3) the support services these individuals will need once they begin to teach.

The Teacher Recruitment Program also anticipates that projects will provide prospective teachers with high-quality teacher preparation and induction programs that—

• Set high standards for teaching;

• Reflect the best research and practice known across the country; and

• Prepare teachers to use technology in their classrooms.

Finally, all three of the Teacher Quality Enhancement Grant Programs anticipate that when program funding ceases, the work that States and partnerships have begun will continue and be sustained. Therefore, the ability of grantees to sustain activities after the end of the project is a key determinant of success.

Need to Regulate

Regulations are needed in order to establish appropriate selection criteria and a small number of other requirements for Fiscal Year (FY) 2000 and subsequent year competitions under the Teacher Quality programs. As explained in the following discussion, new program-specific selection criteria for competitions conducted under the three Teacher Quality Programs are needed to promote better quality applications and greater consistency among reviewers and across review panels.

On February 8, 1999, the Department published final regulations to govern competitions conducted under the Teacher Quality Enhancement Grant Programs for fiscal year (FY) 1999 (64 FR 6189). In doing so, the Department used its authority under section 437(d) of the General Education Provisions Act to waive rulemaking requirements for regulations governing the first grant competition under a new or substantially revised program. This notice of proposed rulemaking establishes the proposed regulations for the FY 2000 and subsequent year competitions.

The State, Partnership, and Teacher Recruitment Programs are key elements in the Federal government's strategy to support State efforts to improve teacher quality and recruit, prepare, and support new teachers in high-need schools and school districts. The success of these programs depends upon the preparation of applications that are of the highest possible quality, and the ability of reviewers to identify those applicants with the most promise of success. In order to guide the preparation and identification of high-quality applications under any of these three Programs, application selection criteria need to be established.

As a new program in FY 1999, the Teacher Quality Program relied upon general selection criteria in § 75.210 of the Education Department General Administrative Regulations (EDGAR) to evaluate applications submitted under the State and the Teacher Recruitment Programs. The EDGAR criteria were used for these two programs because we believed that program-specific regulations would not be needed to generate high-quality applications and permit reviewers a ready means to evaluate them. However, those reviewing applications under these programs found that, notwithstanding guidance in the program application packages on what high-quality applications likely would contain, submitted applications generally not only lacked sufficient specificity, but also were difficult to evaluate under these general selection criteria.

Hence, the Department's experience with applications submitted under the State and Teacher Recruitment Programs now convinces us that program-specific criteria—rather than those in EDGAR—would assist applicants to write better, more specific proposals that focus more closely on how they would address Title II program goals. We also are convinced that the use of program-specific selection criteria in these two programs would substantially help reviewers to make better judgments as they read, score proposals, and make evaluative comments. Regulations therefore are needed to establish program-specific criteria that reflect the goals and objectives of the Title II statute.

The Department did use program-specific selection criteria rather than general criteria in EDGAR to evaluate both pre-applications and full applications submitted for the initial competition conducted in FY 1999 under the Partnership Program. However, difficulties that reviewers had evaluating those pre-applications and full applications have convinced us that they, too, need to be modified. We now see that, in some respects, those criteria were too general. They helped applicants to sketch a broad vision of their projects, but reviewers often had difficulty finding enough specific detail in the pre-applications and full applications to score them with precision. Reviewers also found that the generality of the program-specific criteria inhibited their ability to make fine distinctions among applications. We believe that revised, more specific, selection criteria for the Partnership Program are needed to improve the quality of applications and the review process.

For the FY 2000 Title II competition, therefore, new program-specific selection criteria have been drafted for all three Teacher Quality Program components. It is expected that these new criteria will provide clearer guidance to proposal writers, and will give reviewers a more reliable scoring system. By using the revised selection criteria, the complete selection process should result in funding strong projects likely to achieve key Title II goals. (Consistent with § 75.210 of EDGAR, the application packages for these three programs will inform the public the total possible score for all criteria that apply to a program, and the assigned weight or maximum possible score for all criteria that apply to a program, and the assigned weight or maximum possible score for each criterion or factor under that criterion).

Finally, regulations are needed in two other areas. First, all three programs require applicants to develop strategies in comprehensive areas related to teacher preparation, licensure, certification, or recruitment. The experience with the initial grants competition conforms that both reviewers and successful applicants would benefit from having applications include detailed workplans that contain project objectives, activities, benchmarks, responsible parties, time lines, and outcomes. In addition, regulations are needed to clarify over what period of time States are to meet the 50 percent matching requirement in section 205(c) of the statute.

The remainder of this section of this notice explains in more detail the regulations that we are proposing to adopt for the three Teacher Quality Enhancement Grant Programs.

Section 611.2 Pre-Application and Application

Under § 611.2, an applicant for a grant under the Teacher Quality Enhancement Grants Program would be required to submit with its application a proposed multiyear workplan. At a minimum, the applicant would have to specifically identify, for each year of the project, the project's overall objectives, activities the applicant proposes to implement to promote each program objective, benchmarks and time lines for conducting project activities and achieving the project's objectives, who would be responsible for conducting and coordinating each activity, measurable program outcomes that are tied to each program objective, and the evidence by which success in achieving these objectives would be measured. Applicants for grants under subpart C (the Partnership Program) and subpart D (the Teacher Recruitment Program) would only have to provide a workplan if they are invited, based on their pre-applications, to submit a full application.

Finally, § 611.2 would also require any applicant that submits a pre-application for a grant under the Partnership or Teacher Recruitment Program to submit any budgetary information that the Secretary may require in the program's application package.

These workplans are necessary for two reasons. Section 75.112(b) of EDGAR requires all applicants to include a narrative that describes how and when, for each budget year of the project, the applicant plans to meet each project objective. However, for the 1999 grants competition, the submitted applications did not contain the specificity that reviewers desired for making the most informed decisions about the quality of applicants' multiyear plans. This regulation is needed both to address this problem and to ensure that, for those applicants receiving awards, the Department has the information it needs to work with applicants over the life of their projects so that the projects can succeed.

Section 611.3 Procedures for Grant Selection

Section 611.3 sets out the procedures that we would use to select grants for the Teacher Quality Program. In general, we would use the procedures in 34 CFR 75.200-75.222. However, § 611.3 would establish our use of program-specific selection procedures identified in §§ 611.12-611.32 to evaluate applications for each of the three programs, including the use of a competitive priority for the State and Partnership Programs.

In addition, § 611.3 would establish a two-stage application process for both the Partnership and Teacher Recruitment Programs. The proposed regulations would require applicants under either of these Programs to submit a pre-application. We would use the selection criteria established for these pre-applications to determine which applicants should be invited to submit full applications.

A two-stage process was used successfully during the 1999 initial competition under the Partnership Program. We received substantial feedback from applicants who favored this process. They told us that it permitted them to spend more time planning their projects than they would have had under the normal, single-stage, process, and saved those applicants whose pre-applications were not of sufficiently high quality the time and resources needed to prepare a full program application. We also believe that the quality of the full applications likely benefited from the applicants' receipt of reviewers' comments on their pre-applications, and reviewers told us that they appreciated being able to focus their time evaluating a limited number of full applications that reflected sound conceptual thinking. Therefore, we have decided to make the pre-application process a permanent feature of the Partnership Program.

In addition, reviewers of applications submitted under the initial Teacher Recruitment Program grants competition found that many applications lacked the vision and specificity that the Program needs. Given the importance of successful Teacher Recruitment Program projects, we believe that the quality of applications for these projects likewise would be enhanced by use of a pre-application process. For this reason, we are proposing to use this two-step process for both the Partnership and Teacher Recruitment Programs.

In the event that two or more applicants are ranked equally for the last available award under any of the three programs, the proposed regulations would continue a tie-breaking procedure used during the FY 1999 competition. Under this procedure, the Secretary would select the applicant whose activities would focus (or have the most impact) on LEAs and schools located in one (or more) of the Nation's Empowerment Zones and Enterprise Communities.

Finally, for the initial grant competition under these three programs, we developed program-specific selection criteria only for the Partnership Program. For reasons discussed in the “Need to Regulate” section of this preamble, we are proposing program-specific selection criteria for applications submitted under the State and Teacher Recruitment Program, and revised program-specific criteria for applications submitted under the Partnership Program.

Selection Criteria to Govern the State Program

Section 611.11 would establish the selection criteria for the State Program. The criteria would focus on the quality of the project design, the significance of the project, the quality of the resources, and the quality of the management plan and workplan. Section 611.12 would establish selection criteria, which would be used in addition to the selection criteria in § 611.11, for any State Program applicant that proposed teacher recruitment activities. Although teacher recruitment is not required for the State Program, applicants may choose to incorporate teacher recruitment into their projects. If they do so, additional selection criteria would be needed because of the requirements governing use of funds for teacher recruitment activities in sections 202 and 204(d) of the HEA. We therefore have added selection criteria that would specifically address teacher recruitment, so that peer reviewers can judge the quality of the teacher recruitment activities within a State program.

Section 611.13 would establish a competitive preference for the State Program. As required by section 205(b)(2)(A) of the HEA, the Secretary would determine the extent to which the State's proposed activities in any one or more of three statutory priorities are likely to yield successful and sustained results. The statutory priorities are (1) initiatives to reform State teacher licensure and certification requirements so that current and future teachers possess strong teaching skills and academic content knowledge in the subject areas they will be certified or licensed to teach; (2) innovative reforms to hold IHEs with teacher preparation programs accountable for preparing teachers who are highly competent in the academic content areas and have strong teaching skills, and (3) innovative efforts to reduce the teacher shortage (including the high turnover) of highly competent teachers in high-poverty urban and rural areas.

Selection Criteria to Govern the Partnership Program

Section 611.21 would establish the selection criteria for the pre-application for the Partnership Program. The selection criteria would address project goals and objectives, the level of commitment to the partnership, the quality of key project components, and the anticipated specific outcomes of the project. As with the State Program, because of the requirements governing use of funds for teacher recruitment activities in sections 203 and 204(d) of Title II, the Partnership Program, in § 611.22, would establish additional criteria that would apply to any pre-application that proposes teacher recruitment activities.

Sections 611.23 and 611.24 would establish the selection criteria for the full application. Section 611.23 would apply to all applicants for Partnership program grants, and § 611.24 would apply to those applications that include teacher recruitment activities. The selection criteria for full applications are similar to those we used to evaluate applications in 1999 for the initial competition under the program. They focus on quality of project design, significance of project activities, quality of resources, and the quality of the management plan and workplan.

As required by section 205(b)(2)(B) of the statute, § 611.25 would establish a competitive preference for Partnership Program applications that involve businesses. Under this section, the Secretary would award up to ten additional points on the basis of how well the application includes a significant role for private business in the design and implementation of the project.

Selection Criteria for the Teacher Recruitment Program

Sections 611.31 and 611.32 would establish the selection criteria for the pre-application and the full application, respectively. The selection criteria for pre-applications would address the same general areas as those for Partnership Program pre-applications, but would be tailored to matters related to teacher recruitment. Similarly, the selection criteria to govern full applications submitted under the Teacher Recruitment Program would address the same general areas as those for the State Program, but would be tailored to matters related to teacher recruitment.

Other Program Requirements

Section 611.61 would limit the indirect costs that a recipient may charge to Teacher Quality Program funds to the maximum of either eight percent or the amount determined through operation of a negotiated indirect cost rate. We are proposing this regulation so that the indirect cost limitation is applicable to all recipients of program funds. By regulation published in the Federal Register on August 6, 1999 (64 FR 42837), this limitation (formerly established in § 611.41) already applies to States and LEAs. Regulations published in the Federal Register on February 8, 1999 (64 FR 6189) applied this same indirect cost limitation to IHEs and nonprofit organizations that receive program funds on the basis of the initial Teacher Quality Program grant competitions. However, through an oversight, the Department had not previously proposed to apply this limitation on indirect costs to IHEs and nonprofit agencies and that receive program funds under the second and succeeding grant competitions.

We recognize the legitimacy of a grant recipient's indirect costs. However, for reasons presented in the May 19, 1999 NPRM that proposed this indirect cost limitation for States and LEAs (64 FR 27403), we believe that having IHEs and nonprofit organizations apply large, generally applicable negotiated indirect cost rates to compensate themselves out of program funds for general overhead and related expenses is inconsistent with the purpose of the Teacher Quality Programs and the expectations that Congress and the Nation have for their success. Therefore, given (1) the privotal significance of the Teacher Quality Programs, (2) the national need that these programs have a maximum impact on the quality and quantity of highly-qualified new teachers, and (3) the fact that these programs are competitive, the Secretary has determined that a reasonable limitation on the indirect cost rate that IHEs and nonprofit organizations may charge to their Teacher Quality Program funds is appropriate. Section 611.61 would make all recipients of program funds—States, LEAs, IHEs, nonprofit organizations, and other entities—subject to the same limitation on indirect costs they may charge to program funds.

Finally, § 611.62 would detail a grantee's matching requirements. As required by section 205(c)(1) of the statute, each State receiving a grant under either the State Program or the Teacher Recruitment Program would have to provide, from non-Federal sources, an amount equal to 50 percent of the amount of the grant to carry out the activities supported by the grant. Section 611.52(a) would clarify that the 50 percent match would need to be made annually during the project period, with respect to each grant a State receives. In addition, § 611.52(b) repeats the requirement in section 205(c)(2) of the statute that each partnership receiving a grant under the Partnership Program or the Teacher Recruitment Program be required to provide, from non-Federal sources, an amount equal to 25 percent of the grant for the first year of the program, 35 percent of the grant for the second year of the program, and 50 percent of the grant for the third through fifth year of the program.

We interpret these requirements, that grantees provide each year a specified percentage “of the grant” from non-federal sources, to mean a specified percentage of the amount of the federal funds the Department annually awards. Therefore, for example, a partnership that is awarded $1 million per year in federal funds would need to provide the project $250,000 from non-federal funds for the first year of project activities. The required match from non-Federal sources required by this section could be made in cash or in kind.

Goals 2000: Educate America Act

The Goals 2000: Educate America Act (Goals 2000) focuses the Nation's education reform efforts on the eight National Education Goals and provides a framework for meeting them. Goals 2000 promotes new partnerships to strengthen schools and expands the Department's capacities for helping communities to exchange ideas and obtain information needed to achieve the goals.

These proposed regulations would address the National Education Goal that the Nation's teaching force will have the content knowledge and teaching skills needed to instruct all American students for the next century.

Clarity of the Regulations

Executive Order 12866 and the President's Memorandum of June 1, 1998 on “Plain Language in Government Writing” require each agency to write regulations that are easy to understand.

The Secretary invites comments on how to make these proposed regulations easier to understand, including answers to questions such as the following:

• Are the requirements in the proposed regulations clearly stated?

• Do the proposed regulations contain technical terms or other wording that interferes with their clarity?

• Does the format of the proposed regulations (grouping and order of sections, use of headings, paragraphing, etc.) aid or reduce their clarity?

• Would the proposed regulations be easier to understand if we divided them into more (but shorter) sections? (A “section” is preceded by the symbol “§” and a numbered heading; for example, § 611.21 What are the selection criteria for pre-applications?)

• Could the description of the proposed regulations in the SUPPLEMENTARY INFORMATION section of this preamble be more helpful in making the proposed regulations easier to understand? If so, how?

• What else could we do to make the proposed regulations easier to understand?

Send any comments that concern how the Department could make these proposed regulations easier to understand to the person listed in the ADDRESSES section of the preamble.

Regulatory Flexibility Act Certification

The Secretary certifies that these proposed regulations would not have a significant economic impact on a substantial number of small entities. Entities that would be affected by these regulations are IHEs and LEAs. The information burden on each of these groups consists only of the time and resources needed to submit grant applications. Hence, the regulations would not have a significant impact on any entity because they would not impose excessive regulatory burden or require unnecessary Federal supervision.

Paperwork Reduction Act of 1995

Proposed §§ 611.2-611.25 contain information collection requirements. Under the Paperwork Reduction Act of 1995 (44 U.S.C. 3507(d)), the Department of Education has submitted a copy of this notice and these sections to the Office of Management and Budget (OMB) for its review.

Collection of Information

Teacher Quality Enhancement Grant Programs.

Applicants for funds under the State Grants program, the Partnership Program for Improving Teacher Effectiveness, and the Teacher Recruitment Grants Program would need to submit program applications and, for the Partnership Program and Teacher Recruitment Program, pre-applications that respond to the selection criteria announced in this notice. Applicants also would need to include a detailed workplan with their applications.

State Program

We collect information once for applicants for State Program grant awards. We estimate annual reporting and recordkeeping burden for this collection of information to average 200 hours for each application for 20 State respondents, including the time for reviewing instructions, searching existing data sources, gathering and maintaining the data needed, and completing and reviewing the collection of information. Thus, we estimate the total annual reporting and recordkeeping burden for this collection on those preparing application under the State Program to be 4,000 hours.

Partnership and Teacher Recruitment Programs

For both the Partnership Program and Teacher Recruitment Program, all applicants must submit a pre-application; those with the highest quality pre-applications would then be invited to submit full applications. We estimate annual reporting and recordkeeping burden for this collection of information to average 54 hours for each of the 150 respondents expected to submit pre-applications under the Partnership Program, and 54 hours for each of the 150 respondents expected to submit pre-applications under the Teacher Recruitment Program. These estimates include the time for reviewing instructions, searching existing data sources, gathering and maintaining the data needed, and completing and reviewing the collection of information. Thus, we estimate the total annual reporting and recordkeeping burden related to the preparation of pre-applications to be 8,100 hours for each of the two programs, or a total of 16,200 hours.

We estimate that of those applicants who submitted pre-applications for Partnership Program and Teacher Recruitment Program grant awards, 25 under each program will be invited to submit full program applications. We estimate annual reporting and recordkeeping burden for this collection of information to average 200 hours for each of the applications, including the time for reviewing instructions, searching existing data sources, gathering and maintaining the data needed, and completing and reviewing the collection of information. Thus, we estimate the total annual reporting and recordkeeping burden for this collection on those preparing application under the Partnership Program to be 5,000 hours, and under the Teacher Recruitment Program also to be 5,000 hours.

Summary

Finally, as discussed in the preceding discussion, we estimate that the total annual reporting and recordkeeping burden for this collection as it relates to all three Teacher Quality Enhancement Grant Programs to be 30,200 hours. This estimate includes the time for reviewing instructions, searching existing data sources, gathering and maintaining the data needed, and completing and reviewing the collection of information.

If you want to comment on the information collection requirements, please send your comments to the Office of Information and Regulatory Affairs, OMB, room 10235, New Executive Office Building, Washington, DC 20503; Attention: Desk Officer for U.S. Department of Education. You may also send a copy of these comments to the Department representative named in the ADDRESSES section of this preamble.

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the information we collect; and

• Minimizing the burden on those who must respond. This includes exploring the use of appropriate automated, electronic, mechanical, or other technological collection techniques or other forms of information technology; e.g., permitting electronic submission of responses.

OMB is required to make a decision concerning the collections of information contained in these proposed regulations between 30 and 60 days after publication of this document in the Federal Register. Therefore, to ensure that OMB gives your comments full consideration, it is important that OMB receives the comments within 30 days of publication. This does not affect the deadline for your comments to us on the proposed regulations.

Requests for copies of the proposed application packages for any or all of the Teacher Quality Programs may be accessed from http://edicsweb.ed.gov, or should be addressed to Vivian Reese, Department of Education, 400 Maryland Avenue, SW, Room 5624, Regional Office Building 3, Washington, D.C. 20202-4651. Requests may also be electronically mailed to the Internet address OCIO_IMG_Issues@ed.gov or faxed to 202-708-9346.

Intergovernmental Review

This program is subject to Executive Order 12372 and the regulations in 34 CFR Part 79. One of the objectives of the Executive order is to foster an intergovernmental partnership and a strengthened federalism. The Executive order relies on processes developed by State and local governments for coordination and review of proposed Federal financial assistance.

This document is intended to provide early notification of our specific plans and actions for this program.

Assessment of Educational Impact

The Secretary particularly requests comments on whether these proposed regulations would require transmission of information that any other agency or authority of the United States gathers or makes available.

Electronic Access to This Document

You may review this document, as well as all other Department of Education documents published in the Federal Register, in text or Adobe Portable Document Format (PDF) on the Internet at either of the following sites: http://ocfo.ed.gov/fedreg.htm; http://www.ed.gov/news.html. To use the PDF you must have the Adobe Acrobat Reader Program with Search, which is available free at either of these sites. If you have questions about using the PDF, call the U.S. Government Printing Office (GPO) at 1-888-293-6448, or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1021 et seq. and 1024(e)

(Catalog of Federal Domestic Assistance Number 84.336: Teacher Quality Enhancement Grants Program)

List of Subjects in 34 CFR Part 611

Colleges and universities, Elementary and secondary education, Grant programs—education.

Dated: February 1, 2000.
A. Lee Fritschler,
Assistant Secretary For Postsecondary Education.

For the reasons stated in the preamble, the Secretary proposes to amend part 611 of Chapter VI of title 34 of the Code of Federal Regulations as follows:

PART 611—[AMENDED]

1. The authority citation for part 611 continues to read as follows:

Authority: 20 U.S.C. 1021 et seq., unless otherwise noted.

2. Sections 611.2 and 611.3 are added to Subpart A to read as follows:

§ 611.2 What must be included in a Partnership or Teacher Recruitment Program pre-application?

(a) In addition to a description of the proposed multiyear project, timeline, and budget information required by 34 CFR 75.112 and 75.117 and other applicable law, an applicant for a grant under this part must submit with its application a proposed multiyear workplan. At a minimum, this workplan must identify, for each year at the project—

(1) The project's overall objectives;

(2) Activities that the applicant proposes to implement to promote each project objective;

(3) Benchmarks and timelines for conducting project activities and achieving the project's objectives;

(4) Who will conduct and coordinate these activities; and

(5) Measurable program outcomes that are tied to each program objective, and the evidence by which success in achieving these objectives will be measured;

(b)(1) In any application for a grant under the Partnership Program, or under the Teacher Recruitment Program that is submitted on behalf of a partnership, the workplan must identify which partner will be responsible for which activities.

(2) In any application for a grant under the Teacher Recruitment Program that is submitted on behalf of a State, the workplan must identify which entity in the State will be responsible for which activities.

(c) An applicant that submits a pre-application for a Partnership Program grant under § 611.3(b) (3) must also submit any budgetary information that the Secretary may require in the program application package.

(Authority: 20 U.S.C. 1021 et seq.)

§ 611.3 What procedures does the Secretary use to award a grant?

The Secretary uses the selection procedures in 34 CFR 75.200 through 75.222 except that—

(a)(1) For the State Grants Program, the Secretary evaluates applications for new grants on the basis of the selection criteria and competitive preference contained in §§ 611.11 through 611.13.

(2) For the Partnership Grants Program, the Secretary—

(i) Uses a two-stage application process to determine which applications to fund;

(ii) Uses the selection criteria in §§ 611.21 through 611.22 to evaluate the pre-applications submitted for new grants, and to determine those applicants to invite to submit full program applications; and

(iii) For those applicants invited to submit full applications, uses the selection criteria and competitive preference in §§ 611.23 through 611.25 to evaluate the full program applications.

(3) For the Teacher Recruitment Grants Program, the Secretary—

(i) Uses a two-stage application process to determine which applications to fund;

(ii) Uses the selection criteria in §§ 611.31 to evaluate the pre-applications submitted for new grants, and to determine those applicants to invite to submit full program applications; and

(iii) For those applicants invited to submit full applications, uses the selection criteria in §§ 611.32 to evaluate the full program applications; and

(b) In the event that two or more applicants are ranked equally for the last available award under any program, the Secretary selects the applicant whose activities will focus (or have most impact) on LEAs and schools located in one (or more) of the Nation's Empowerment Zones and Enterprise Communities.

(Authority: 20 U.S.C. 1021 et seq.)

3. Subpart B, consisting of §§ 611.11 through 611.13, is added, reading as follows:

Subpart B—State Grants Program

§ 611.11 What are the program's general selection criteria?

In evaluating the quality of applications, the Secretary uses the following selection criteria.

(a) Quality of project design. (1) The Secretary considers the quality of the project design.

(2) In determining the quality of the project design, the Secretary considers the extent to which—

(i) The project design will result in systemic change in the way that all new teachers are prepared, and includes partners from all levels of the education system;

(ii) The Governor and other relevant execution and legislative branch officials, the K-16 education system or systems, and the business community are directly involved in and committed to supporting the proposed activities;

(iii) Project goals and performance objectives are clear, measurable outcomes are specified, and a feasible plan is presented for meeting them;

(iv) The project is likely to initiate or enhance and supplement systemic State reforms in one or more of the following areas; teacher recruitment, preparation, licensing, and certification;

(v) The applicant will ensure that a diversity of perspectives are incorporated into operation of the project, including those of parents, teachers, employers, academic and professional groups, and other appropriate entities; and

(vi) The project design in based on up-to-date knowledge from research and effective practice.

(b) Significance. (1) The Secretary considers the significane of the project.

(2) In determining the significance of the project, the Secretary considers the extent to which—

(i) The project involves the development or demonstration of promising new strategies or exceptional approaches in the way new teachers are recruited, prepared, certified, or licensed;

(ii) Project outcomes lead directly to improvements in teaching quality and student achievement as measured against rigorous academic standards;

(iii) The State is committed to institutionalize the project after federal funding ends; and

(iv) Project strategies, methods, and accomplishments are replicable, thereby permitting other States to benefit from them.

(c) Quality of resources. (i) The Secretary considers the quality of the project's resources.

(2) In determining the quality of the project design, the Secretary considers the extent to which—

(i) Support available to the project, including personnel, equipment, supplies, and other resources, is sufficient to ensure a successful project;

(ii) Budgeted costs that are reasonable and justified in relation to the design, outcomes, and potential significance of the project; and

(iii) The applicant's matching share of the budgeted costs demonstrates a significant commitment to successful completion of the project and to project continuation after federal funding ends.

(d) Quality of management plan and workplan. (1) The Secretary considers the quality of the project's management plan and workplan.

(2) In determining the quality of the management plan and workplan, the Secretary considers the following factors:

(i) The extent to which the management plan and workplan are designed to achieve goals and objectives of the project, and include clearly defined activities, responsibilities, timelines, milestones, and measurable outcomes for accomplishing project tasks.

(ii) The adequacy of procedures to ensure feedback and continuous improvements in the operation of the project.

(iii) The qualifications, including training and experience, of key personnel charged with implementing the project successfully.

(Authority: 20 U.S.C. 1021 et seq.)

§ 611.12 What additional selection criteria are used for an application proposing teacher recruitment activities?

In reviewing applications that propose to undertake teacher recruitment activities, the Secretary also considers the following selection criteria:

(a) In addition to the elements contained in § 611.11(a) (“Quality of project design”), the Secretary considers the extent to which the project addresses—

(1) Systemic changes in the ways that new teachers are to be recruited, supported and prepared; and

(2) Systemic efforts to recruit, support, and prepare prospective teachers from disadvantaged and other underrepresented backgrounds.

(b) In addition to the elements contained in § 611.11(b), (“Significance”), the Secretary considers the applicant's commitment to continue recruitment activities, scholarship assistance, and preparation and support of additional cohorts of new teachers after funding under this part ends.

(c) In addition to the elements contained in § 611.11(c) (“Quality of resources”), the Secretary considers the impact of the project on high-need LEAs and high-need schools based upon—

(1) The amount of scholarship assistance the project will provide students from federal and non-federal funds;

(2) The number of students who will receive scholarships; and

(3) How those students receiving scholarships will benefit from high-quality teacher preparation and an effective support system during their first three years of teaching.

(Authority: 20 U.S.C. 1021 et seq.)

§ 611.13 What competitive preference does the Secretary provide?

The Secretary provides a competitive preference on the basis of how well the State's proposed activities in any one or more of the following statutory priorities are likely to yield successful and sustained results:

(a) Initiatives to reform State teacher licensure and certification requirements so that current and future teachers possess strong teaching skills and academic content knowledge in the subject areas they will be certified or licensed to teach.

(b) Innovative reforms to hold higher education institutions with teacher preparation programs accountable for preparing teachers who are highly competent in the academic content areas and have strong teaching skills.

(c) Innovative efforts to reduce the shortage (including the high turnover) of highly competent teachers in high-poverty urban and rural areas.

(Authority: 20 U.S.C. 1021 et seq.)

4. Subpart C, consisting of §§ 611.21 through 611.25, is added, reading as follows:

Subpart C—Partnership Grants Program

§ 611.21 What are the program's selection criteria for pre-applications?

In evaluating the quality of pre-applications, the Secretary uses the following selection criteria.

(a) Project goals and objectives. (1) The Secretary considers the goals and objectives of the project design.

(2) In determining the quality of the project goals and objectives, the Secretary considers the following factors:

(i) The partnership's vision for producing significant and sustainable improvements in teacher education.

(ii) The needs the partnership will address.

(iii) How the partnership and its activities would be sustained once federal support ends.

(b) Partnering commitment. (1) The Secretary considers the partnering commitment embodied in the project.

(2) In determining the quality of the partnering commitment, the Secretary considers the following factors:

(i) Evidence of how well the partnership would be able to accomplish objectives working together that its individual members could not accomplish working separately.

(ii) The significance of the roles given to each principal partner in implementing project activities.

(c) Quality and comprehensiveness of key project components. (1) The Secretary considers the quality and comprehensiveness of key project components in the process of preparing new teachers.

(2) In determining the quality and comprehensiveness of key project components in the process of preparing new teachers, the Secretary considers the extent to which—

(i) Specific activities are designed and would be implemented to ensure that students preparing to be teachers are adequately prepared, including activities designed to ensure that they have adequate content knowledge, are able to use technology effectively to promote instruction, and participate in extensive, supervised clinical experiences;

(ii) Specific activities are designed and would be implemented to ensure adequate support for those who have completed the teacher preparation program during their first years as teachers; and

(iii) The project design reflects best research and practice.

(d) Specific project outcomes. (1) The Secretary considers the specific outcomes the project would produce in the preparation of new teachers.

(2) In determining the specific outcomes the project would produce in the preparation of new teachers, the Secretary considers the following factors:

(i) The extent to which important aspects of the partnership's existing teacher preparation system would change.

(ii) The quality of the performance measures to be used to demonstrate success.

(Authority: 20 U.S.C. 1021 et seq.)

§ 611.22 What additional selection criteria are used for a pre-application that proposes teacher recruitment activities?

In reviewing pre-applications that propose to undertake teacher recruitment activities, the Secretary also considers the following selection criteria:

(a) In addition to the elements contained in § 611.21(a) (“Project goals and objectives”), the Secretary considers the extent to which—

(1) The partnership's vision responds to LEA needs for a diverse and high quality teaching force, and will lead to reduced teacher shortages in these high need LEAs; and

(2) The partnership will sustain its work after federal funding has ended by recruiting, providing scholarship assistance, training and supporting additional cohorts of new teachers.

(b) In addition to the elements contained in § 611.21(c) (“Quality and comprehensiveness of key project components”), the Secretary considers the extent to which the project will—

(1) Significantly improve recruitment of new students, including those from disadvantaged and other underrepresented backgrounds; and

(2) Provide scholarship assistance and adequate training to preservice students, as well as induction support for those who become teachers after graduating from the teacher preparation program.

(c) In addition to the elements contained in § 611.21(d) (“Specific project outcomes″), the Secretary considers the extent to which the project addresses the number of new teachers to be produced and their ability to teach effectively in high-need schools.

(Authority: 20 U.S.C. 1021 et seq.)

§ 611.23 What are the program's general selection criteria for full applications?

In evaluating the quality of applications, the Secretary uses the following selection criteria.

(a) Quality of project design. (1) The Secretary considers the quality of the project design.

(2) In determining the quality of the project design, the Secretary considers the following factors:

(i) The extent of evidence of institution-wide commitment to high quality teacher preparation that includes significant policy and practice changes supported by key leaders, and which result in permanent changes to ensure that preparing teachers is a central mission of the entire university.

(ii) The extent to which the partnership creates and sustains collaborative mechanisms to integrate professional teaching skills, including skills in the use of technology in the classroom, with strong academic content from the arts and sciences.

(iii) The extent of well-designed and extensive preservice clinical experiences for students, including mentoring and other forms of support, implemented through collaboration between the K-12 and higher education partners.

(iv) Whether a well-planned, systematic induction program is established for new teachers to increase their chances of being successful in high-need schools.

(v) The strength of linkages within the partnership between higher education and high need schools or school districts so that all partners have important roles in project design, implementation, governance and evaluation.

(vi) Whether the project design is based on up-to-date knowledge from research and effective practice, especially on how students learn.

(b) Significance of project activities. (1) The Secretary considers the significance of project activities.

(2) In determining the quality of the project design, the Secretary considers the following factors:

(i) How well the project involves promising new strategies or exceptional approaches in the way new teachers are recruited, prepared and inducted into the teaching profession.

(ii) The extent to which project outcomes include preparing teachers to teach to their State's highest K-12 standards and that are likely to result in improved K-12 student achievement.

(iii) The extent of the partnership's commitment to institutionalize the project after federal funding ends.

(iv) The extent to which the partnership is committed to disseminating effective practices to others and is willing to provide technical assistance about ways to improve teacher education.

(v) How well the partnership will integrate its activities with other education reform efforts underway in the State or communities where the partners are located, and will coordinate its work with local, State or federal teacher training, teacher recruitment, or professional development programs.

(c) Quality of resources. (1) The Secretary considers the quality of resources of project activities.

(2) In determining the quality of resources, the Secretary considers the extent to which—

(i) Support available to the project, including personnel, equipment, supplies, and other resources, is sufficient to ensure a successful project;

(ii) Budgeted costs are reasonable and justified in relation to the design, outcomes, and potential significance of the project; and

(iii) The applicant's matching share of the budgeted costs demonstrates a significant commitment to successful completion of the project and to project continuation after federal funding ends.

(d) Quality of management plan and workplan. (1) The Secretary considers the quality of the management plan and workplan.

(2) In determining the quality of the management plan, the Secretary considers the following factors:

(i) The extent to which the management plan and workplan are designed to achieve goals and objectives of the project, and include clearly defined activities, responsibilities, timelines, milestones, and measurable outcomes for accomplishing project tasks.

(ii) The extent to which the management plan and workplan reflect an effective, inclusive, and responsive governance and decision-making structure that will permit all partners to participate in and benefit from project activities, and to use evaluation results to ensure continuous improvements in the operations of the project.

(iii) The qualifications, including training and experience, of key personnel charged with implementing the project successfully.

(Authority: 20 U.S.C. 1021 et seq.)

§ 611.24 What additional selection criteria are used for a full application that proposes teacher recruitment activities?

In reviewing full applications that propose to undertake teacher recruitment activities, the Secretary also considers the following selection criteria:

(a) In addition to the elements contained in § 611.23(a) (“Quality of project design”), the Secretary considers the extent to which the project reflects—

(1) A commitment to recruit, support and prepare additional well-qualified new teachers for high need schools;

(2) Appropriate academic and student support services; and

(3) A well-considered strategy for addressing shortages of well-qualified and well-trained teachers in high-need LEAs, especially teachers from disadvantaged and other unrepresented backgrounds.

(b) In addition to the elements contained in § 611.23(b) (“Significance of project activities”), the Secretary considers the extent to which the project promotes the recruitment, scholarship assistance, preparation, and support of additional cohorts of new teachers.

(c) In addition to the elements contained in § 611.23(c) (“Quality of resources”), the Secretary considers the impact of the project on high-need LEAs and high-need schools based upon—

(1) The amount of scholarship assistance the project will provide students from federal and non-federal funds;

(2) The number of students who will receive scholarships; and

(3) How those students receiving scholarships will benefit from high-quality teacher preparation and an effective support system during their first three years of teaching.

(Authority: 20 U.S.C. 1021 et seq.)

§ 611.25 What competitive preference does the Secretary provide?

The Secretary provides a competitive preference on the basis of how well the project includes a significant role for private business in the design and implementation of the project.

(Authority: 20 U.S.C. 1021 et seq.)

5. Subpart D, consisting of §§ 611.31 and 611.32, is added, reading as follows:

Subpart D—Teacher Recruitment Grants Program

§ 611.31 What are the program's selection criteria for pre-applications?

In evaluating pre-applications, the Secretary considers the following criteria:

(a) Project goals and objectives. (1) The Secretary considers the goals and objectives of the project design.

(2) In determining the quality of the project goals and objectives, the Secretary considers how the partnership or State applicant intends to—

(i) Produce significant and sustainable improvements in teacher recruitment, preparation, and support.

(ii) Reduce teacher shortages in high-need LEAs and schools, and improve student achievement in the schools in which teachers who participate in its project will teach.

(b) Partnership commitment. (1) The Secretary considers the partnering commitment embodied in the project.

(2) In determining the quality of the partnering commitment, the Secretary considers the following factors:

(i) What the partnership, or State and its partners, can accomplish by working together that could not be achieved by working separately.

(ii) How the project proposed by the partnership or State is driven by the needs of LEA partners.

(c) Quality of key project components. (1) The Secretary considers the quality of key project components.

(2) In determining the quality of key project components, the Secretary considers the following factors:

(i) The extent to which the project would make significant and lasting systemic changes in how the applicant recruits, trains, and supports new teachers, and reflect knowledge gained from research and practice.

(ii) The extent to which the project would be implemented in ways that significantly improve recruitment, scholarship assistance to preservice students, training, and induction support for new entrants into teaching.

(d) Specific project outcomes. (1) The Secretary considers the specific outcomes the project would produce in the recruitment, preparation, and placement of new teachers.

(2) In determining the specific outcomes the project would produce in the recruitment, preparation, and placement of new teachers, the Secretary considers the following factors:

(i) The number of teachers to be produced and the quality of their preparation.

(ii) The partnership's or State's commitment to sustaining the work of the project after federal funding has ended by recruiting, providing scholarship assistance, training, and supporting additional cohorts of new teachers.

(Authority: 20 U.S.C. 1021 et seq.)

§ 611.32 What are the program's general section criteria?

In evaluating the quality of full applications, the Secretary uses the following selection criteria.

(a) Quality of the project design. (1) The Secretary considers the quality of the project design for ensuring that activities to recruit and prepare new teachers are a central mission of the project.

(2) In considering the quality of the project design for ensuring that activities to recruit and prepare new teachers are a central mission of the project, the Secretary considers the extent to which the project design—

(i) Shows evidence of institutional or (in the case of a State applicant) State-level commitment both to recruitment of additional new teachers, and to high-quality teacher preparation that includes significant policy and practice changes supported by key leaders that result in permanent changes to current institutional practices;

(ii) Creates and sustains collaborative mechanisms to integrate professional teaching skills, including skills in the use of technology in the classroom, with academic content provided by the school of arts and sciences;

(iii) Includes well-designed academic and student support services as well as carefully planned and extensive preservice clinical experiences for students, including mentoring and other forms of support, that are implemented through collaboration between the K-12 and higher education partners;

(iv) Includes establishment of a well-planned, systematic induction program for new teachers that increases their chances of being successful in high-need schools;

(v) Includes strong linkages among the partner institutions of higher education and high-need schools and school districts (or, in the case of a State applicant, between the State and these entities in its project), so that all those who would implement the project have important roles in project design, implementation, governance, and evaluation;

(vi) Responds to the shortages of well-qualified and well-trained teachers in high-need school districts, especially from disadvantaged and other underrepresented backgrounds; and

(vii) Is based on up-to-date knowledge from research and effective practice.

(b) Significance. (1) The Secretary considers the significance of the project.

(2) In determining the significance of the project, the Secretary considers the extent to which—

(i) The project involves promising new strategies or exceptional approaches in the way new teachers are recruited, prepared, and inducted into the teaching profession;

(ii) Project outcomes include measurable improvements in teacher quality and in the number of well-prepared new teachers, and that are likely to result in improved K-12 student achievement;

(iii) The project will be institutionalized after federal funding ends, including recruitment, scholarship assistance, preparation, and support of additional cohorts of new teachers;

(iv) The project will disseminate effective practices to others, and to provide technical assistance about ways to improve teacher recruitment and preparation; and

(v) The project will integrate its activities with other education reform activities underway in the State or communities in which the project is based, and will coordinate its work with local, State, and federal teacher recruitment, training, and professional development programs.

(c) Quality of resources. (1) The Secretary considers the quality of the project's resources.

(2) In determining the quality of the project's resources, the Secretary considers the extent to which—

(i) The amount of support available to the project, including personnel, equipment, supplies, student scholarship assistance, and other resources is sufficient to ensure a successful project.

(ii) Budgeted costs are reasonable and justified in relation to the design, outcomes, and potential significance of the project.

(iii) The applicant's matching share of budgeted costs demonstrates a significant commitment to successful completion of the project, and to project continuation after federal funding ends.

(d) Quality of management plan and workplan. (1) The Secretary considers the quality of the project's management plan and workplan.

(2) In determining the quality of the management plan and workplan, the Secretary considers the following factors:

(i) The extent to which the management plan and workplan are designed to achieve goals and objectives of the project, and include clearly defined activities, responsibilities, timelines, milestones, and measurable outcomes for accomplishing project tasks.

(ii) The extent to which the project has an effective, inclusive, and responsive governance and decisionmaking structure that will permit all partners to participate in and benefit from project activities, and to use evaluation results to continuously improve project operations.

(iii) The qualifications, including training and experience, of key personnel charged with implementing the project successfully.

(Authority: 20 U.S.C. 1021 et seq.)

6. Subpart F is revised to read as follows:

Subpart F—Other Grant Conditions

§ 611.61 What is the maximum indirect cost rate that applies to a recipient's use of program funds?

Notwithstanding 34 CFR 75.560 through 75.562 and 34 CFR 80.22, the maximum indirect cost rate that any recipient of funds under the Teacher Quality Enhancement Grants Program may use to charge indirect costs to these funds is the lesser of—

(a) The rate established by the negotiated indirect cost agreement; or

(b) Eight percent.

(Authority: 20 U.S.C. 1021 et seq.)

§ 611.62 What are a grantee's matching requirements?

(a)(1) Each State receiving a grant under the State Grants Program or Teacher Recruitment Grants Program must provide, from non-federal sources, an amount equal to 50 percent of the amount of the grant to carry out the activities supported by the grant

(2) The 50 percent match required by paragraph (a)(1) of this section must be made annually during the project period, with respect to each grant award the State receives.

(b) Each partnership receiving a grant under the Partnership Grant Program or the Teacher Recruitment Grant Program must provide, from non-federal sources, an amount equal to—

(1) 25 percent of the grant award for the first year of the grant;

(2) 35 percent of the grant award for the second year of the grant; and

(3) 50 percent of the grant award for each succeeding year of the grant.

(c) The match from non-federal sources required by paragraphs (a) and (b) of this section may be made in cash or in kind.

(Authority: 20 U.S.C. 1021 et seq.)

[FR Doc. 00-2722 Filed 2-10-00; 8:45 am]

BILLING CODE 4000-01-M